DEPARTMENT OF DEFENSE

Department of the Army

Privacy Act of 1974; System of Records

AGENCY: Department of the Army.

ACTION: Notice to alter a system of records.

SUMMARY: The Department of the Army is altering a system of records notice in its existing inventory of record systems subject to the Privacy Act of 1974, (5 U.S.C. 552a), as amended.

The alteration adds six routine uses to the existing system of records that will permit the release of records to the White House Military Office; the Sergeants-at-Arms of the House and Senate; the Department of State; the Department of Transportation; the presidential libraries and foundations; and to state and local law enforcement for the purposes of facilitating the planning and execution of funerals.

DATES: This proposed action will be effective without further notice on November 8, 2001 unless comments are received which result in a contrary determination.

ADDRESSES: Records Management Division, U.S. Army Records Management and Declassification Agency, Attn: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on September 25, 2001, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: October 2, 2001.
L.M. Bynum,
Alternate OSD Federal Register Liaison Officer, Department of Defense.

A0600-25 MDW

SYSTEM NAME:

State, Official, and Special Military Funeral Plans (February 22, 1993, 58 FR 10002).

CHANGES:

* * * * *

AUTHORITY FOR MAINTENANCE OF THE SYSTEM:

Delete entry and replace with ‘10 U.S.C. 3013, Secretary of the Army; 38 U.S.C. 2301, Flags; DoD Directive 1300.15, Military Funeral Support; Army Regulation 600-25, Salutes, Honors, and Visits of Courtesy, and E.O 9397 (SSN).’

* * * * *

ROUTINE USES OF RECORDS MAINTAINED IN THE SYSTEM, INCLUDING CATEGORIES OF USERS AND THE PURPOSES OF SUCH USES:

Delete entry and replace with ‘In addition to those disclosures generally permitted under 5 U.S.C. 552a(b) of the Privacy Act, these records or information contained therein may specifically be disclosed outside the DoD as a routine use pursuant to 5 U.S.C. 552a(b)(3) as follows:

To the White House Military Office to facilitate planning and coordination with participating and support personnel prior to execution of State and Official and possibly Special Military funerals.

To the Sergeants-at-arms of the House and Senate to facilitate planning and coordination with participating and support personnel prior to execution of state and official and possibly special military funerals.

To the Departments of State to facilitate planning and coordination with participating and support personnel prior to execution of state and official and possibly special military funerals.

To the Department of Transportation to facilitate planning and coordination with participating and support personnel prior to execution of a state, official and possibly special military funeral.

To the presidential libraries and foundations to facilitate planning and coordination with participating and support personnel prior to execution of state funerals.

To state and local law enforcement to facilitate planning and coordination with participating and support personnel prior to execution of state, official and possibly special military funerals.

The DoD ‘Blanket Routine Uses’ set forth at the beginning of the Army's compilation of systems of records notices also apply to this system.’

* * * * *

STORAGE:

Delete entry and replace with ‘Records are stored in file cabinets, magnetic tapes/disc and electronic storage media.’

* * * * *

SAFEGUARDS:

Delete entry and replace with ‘ Records are maintained in safes and are accessible only to authorized personnel who have an official need therefor in the performance of their duties. Access to computerized information is controlled by a system of assigned passwords; computerized records are accessible only by authorized personnel.”

RETENTION AND DISPOSAL:

Delete entry and replace with ‘Ceremonies of historical importance, such as presidents, ex-presidents, vice presidents, heads of state, heads of government records are permanent. All other ceremonial funerals, maintain records for five years then destroy. Offices not having Army-wide responsibility maintain records for 2 years or when no longer needed for current operations, whichever is later.’

* * * * *

A0600-25 MDW

SYSTEM NAME:

State, Official, and Special Military Funeral Plans.

SYSTEM LOCATION:

Office of Ceremonies and Special Events, U.S. Army Military District of Washington, 103 Third Avenue, Fort Lesley J. McNair, DC 20319-5058. Segments of the system may exist at DoD commands and installations supporting State, Official and Special Military Funerals.

CATEGORIES OF INDIVIDUALS COVERED BY THE SYSTEM:

Government officials or service-connected persons and dependent family members who are authorized a State, Official or Special Military funeral.

CATEGORIES OF RECORDS IN THE SYSTEM:

Letters, memoranda, maps, diagrams, ceremonial plans, and similar relevant documents for military honors and/or funeral support for only those authorized individuals who have requested special arrangements for their funeral ceremony.

AUTHORITY FOR MAINTENANCE OF THE SYSTEM:

10 U.S.C. 3013, Secretary of the Army; 38 U.S.C. 2301, Flags; DoD Directive 1300.15, Military Funeral Support; Army Regulation 600-25, Salutes, Honors, and Visits of Courtesy, and E.O 9397 (SSN).

PURPOSE(S):

To maintain funeral plans or requests by specifically authorized individuals who have requested special arrangements for their funeral ceremony; to facilitate coordination of military support for State, Official, or Special Military funerals.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To the White House Military Office to facilitate planning and coordination with participating and support personnel prior to execution of State and Official, and possibly Special Military funerals.

To the Sergeants-at-arms of the House and Senate to facilitate planning and coordination with participating and support personnel prior to execution of State or Official, and possibly Special Military funerals.

To the Departments of State to facilitate planning and coordination with participating and support personnel prior to execution of State or Official, and possibly Special Military funerals.

To the Department of Transportation to facilitate planning and coordination with participating and support personnel prior to execution of a State or Official, and possibly Special Military funeral.

To the presidential libraries and foundations to facilitate planning and coordination with participating and support personnel prior to execution of State funerals.

To state and local law enforcement to facilitate planning and coordination with participating and support personnel prior to execution of State or Official, and possibly Special Military funerals.

The DoD ‘Blanket Routine Uses’ set forth at the beginning of the Army's compilation of systems of records notices also apply to this system.

Policies and practices for storing, retrieving, accessing, retaining, and disposing of records in the system:

STORAGE:

Records are stored in file cabinets, magnetic tapes/disc and electronic storage media.

RETRIEVABILITY:

By individual's name and plan number.

SAFEGUARDS:

Records are maintained in safes and are accessible only to authorized personnel who have an official need therefor in the performance of their duties. Access to computerized information is controlled by a system of assigned passwords; computerized records are accessible only by authorized personnel.

RETENTION AND DISPOSAL:

Ceremonies of historical importance, such as presidents, ex-presidents, vice presidents, heads of state, heads of government records are permanent. All other ceremonial funerals, maintain records for five years then destroy. Offices not having Army-wide responsibility maintain records for 2 years or when no longer needed for current operations, whichever is later.

SYSTEM MANAGER(S) AND ADDRESS:

Commander, U.S. Army Military District of Washington, 103 Third Avenue, Fort Lesley J. McNair, DC 20319-5058.

NOTIFICATION PROCEDURE:

Individuals seeking to determine if information about themselves contained in this system should address written inquiries to the Commander, U.S. Army Military District of Washington, 103 Third Avenue, Fort Lesley J. McNair, DC 20319-5058.

RECORD ACCESS PROCEDURES:

Individuals seeking access to information about themselves contained in this system should address written inquiries to the Commander, U.S. Army Military District of Washington, 103 Third Avenue, Fort Lesley J. McNair, DC 20319-5058.

CONTESTING RECORD PROCEDURES:

The Army's rules for accessing records, and for contesting contents and appealing initial agency determinations are contained in Army Regulation 340-21; 32 CFR part 505; or may be obtained from the system manager.

RECORD SOURCE CATEGORIES:

Information obtained from the individual or designated representative.

EXEMPTIONS CLAIMED FOR THE SYSTEM:

None.

[FR Doc. 01-25118 Filed 10-5-01; 8:45 am]

BILLING CODE 5001-08-P